DEPARTMENT OF ENERGY

Federal Energy Regulatory Commission

Sunshine Act Meeting

AGENCY HOLDING MEETING: Federal Energy Regulatory Commission.

FEDERAL REGISTER CITATION OF PREVIOUS ANNOUNCEMENT: 12/11/2000, 65 FR 77365.

PREVIOUSLY ANNOUNCED TIME AND DATE OF MEETING: December 13, 2000, 10 a.m.

CHANGE IN THE MEETING: The following Docket Nos. and Company have been added to Item CAE-2 on the December 13, 2000 Commission meeting.

Item No., Docket No. and Company

CAE-2 ER00-2998-001, ER00-2999-001, ER00-3000-001 and ER00-3001-001, Southern Company Services, Inc.

David P. Boergers,
Secretary.

[FR Doc. 00-32433 Filed 12-15-00; 4:57 pm]

BILLING CODE 6717-01-M